DEPARTMENT OF HOMELAND SECURITY

Coast Guard

33 CFR Part 117

[Docket No. USCG-2016-1049]

Drawbridge Operation Regulation; Pearl River, LA/MS

AGENCY: Coast Guard, DHS.

ACTION: Notice of deviation from drawbridge regulations.

SUMMARY: The Coast Guard has issued a temporary deviation from the operating schedule that governs the operation of the US 90 highway bridge (East Pearl River Bridge), a swing span bridge across the Pearl River, mile 8.8, between Slidell, St. Tammany Parish, Louisiana and Pearlington, Hancock County, Mississippi. The deviation is necessary to remove and repair three gear motors to allow for the continued safe operation of the bridge. This deviation allows the bridge to remain in the closed-to-navigation position for a period of 32 days, broken in to one 12-Day Period and two 10-Day periods, as repairs to each motor will be done separately.

DATES: This deviation is effective from 6 a.m. on Thursday January 19, 2017, through 5 p.m. on Tuesday, March 21, 2017.

ADDRESSES: The docket for this deviation, [USCG-2016-1049] is available at http://www.regulations.gov. Type the docket number in the “SEARCH” box and click “SEARCH”. Click on Open Docket Folder on the line associated with this deviation.

FOR FURTHER INFORMATION CONTACT: If you have questions on this temporary deviation, call or email Donna Gagliano, Bridge Administration Branch, Coast Guard, telephone (504) 671-2128, email Donna.Gagliano@uscg.mil.

SUPPLEMENTARY INFORMATION: Boh Bros. Construction Company, on behalf of the Louisiana Department of Transportation and Development, requested a temporary deviation from the operating schedule for the swing span bridge across the Pearl River, mile 8.8, between Slidell, St. Tammany Parish, Louisiana and Pearlington, Hancock County, Mississippi. The deviation was requested to accommodate necessary repairs to the swing span operation due to the complexity of the work requiring rewiring. The draw currently operates under 33 CFR 117.486(b).

For purposes of this deviation, the bridge over the Pearl River will be closed to marine traffic for three extended periods of time from Thursday, January 19, 2017, through Tuesday, March 21, 2017. This deviation allows the bridge to remain closed-to-navigation for the duration of these Phases.

Phase I: A 12-day closure from 6 a.m. on January 19, 2017 through 5 p.m. on January 30, 2017. Phase II: A 10-day closure from 6 a.m. on February 9, 2017 through 5 p.m. on February 18, 2017. Phase III: A 10-day closure from 6 a.m. on March 12, 2017 through 5 p.m. on March 21, 2017. During all Three Phases, the work requires the removal of gear motors #1, #2, and #3, delivery to machine shop to replace bearings and seals, sandblasting and painting, removal of motor armature from input shaft, cutting and broaching of the shafts, and repairing damaged conduit and wiring from the control house to span junction box. Due to the complexity of the work, it will require rewiring of electrical components and conducting testing and troubleshooting of the bridge to safely continue operation of the bridge.

Any vessel with a vertical clearance requirement of less than 10 feet above mean high water in the closed-to-navigation position may pass beneath the bridge at any time. Navigation on the waterway consists of small tugs with and without tows, commercial vessels, and recreational craft, including sailboats.

The bridge will not be able to open for emergencies, and there is no alternate route. LDOTD has coordinated these closing with the Stennis Space Center and other waterway users. The Coast Guard will also inform the users of the waterways through our Local and Broadcast Notices to Mariners of the change in operating schedule for the bridge to minimize any impact caused by the temporary deviation.

In accordance with 33 CFR 117.35(e), the drawbridge must return to its regular operating schedule immediately at the end of the effective period of this temporary deviation. This deviation from the operating regulations is authorized under 33 CFR 117.35.

Dated: December 14, 2016.
David M. Frank,
Bridge Administrator, Eighth Coast Guard District.

[FR Doc. 2016-30572 Filed 12-19-16; 8:45 am]

BILLING CODE 9110-04-P